DEPARTMENT OF ENERGY

Federal Energy Regulatory Commission

[Docket No. QF90-196-002]

Formosa Plastic Corp, Louisiana; Notice of Application for Commission Certification of Qualifying Status of a Cogeneration Facility

January 23, 2009.

Take notice that on December 11, 2008, Formosa Plastics Corp, Louisiana, located in Baton Rouge Louisiana on Gulf States Road filed with the Federal Energy Regulatory Commission an application for certification of a facility as a qualifying cogeneration facility pursuant to 18 CFR 292.207(b) of the Commission's regulations.

Formosa Plastics operates a topping-cycle cogeneration facility in which gas is used as the source of fuel to two General Electric flame Six Gas Turbines and to supplemental firing in the associated Heat Recovery Boilers. The power production capacity of the facility is 94,000 kw at 80 °F ambient conditions. Formosa's mailing address is P.O. Box 271, Baton Rouge, LA. 70821-0271.

Formosa Plastics is connected to the electrical grid through Entergy-Gulf States. Entergy—Gulf States furnishes electricity to Formosa Plastics' Baton Rouge site primarily for the purpose of providing “standby maintenance” and “emergency” power. Entergy-Gulf States provides this service through “General Service” and “Standby/Maintenance” utility contracts.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time February 6, 2009.

Kimberly D. Bose,
Secretary.

[FR Doc. E9-1892 Filed 1-28-09; 8:45 am]

BILLING CODE 6717-01-P